PENSION BENEFIT GUARANTY CORPORATION

OMB Approval of Information Collection; Missing Participants

AGENCY: Pension Benefit Guaranty Corporation.

ACTION: Notice of OMB approval of new information collection.

SUMMARY: The Office of Management and Budget has approved a new collection of information under the Pension Benefit Guaranty Corporation's regulations on Missing Participants.

FOR FURTHER INFORMATION CONTACT: Stephanie Cibinic (cibinc.stephanie@pbgc.gov), Deputy Assistant General Counsel, Regulatory Affairs Division, Office of the General Counsel, Pension Benefit Guaranty Corporation, 1200 K Street NW, Washington, DC 20005-4026; 202 326-4400, extension 6352. TTY/ASCII users may call the Federal relay service toll-free at 800-877-8339 and ask to be connected to 202-326-4400.

SUPPLEMENTARY INFORMATION: Pursuant to regulation under the Paperwork Reduction Act of 1995 (PRA) for information collections contained in a rulemaking, 5 CFR 1320.11(k), the Pension Benefit Guaranty Corporation is publishing this notice to inform the public that the Office of Management and Budget (OMB) has approved a new collection of information.

On December 22, 2017 (at 82 FR 60800), PBGC published a final rule amending its regulations on Missing Participants (29 CFR part 4050). This final rule expands PBGC's Missing Participants Program for terminated single-employer defined benefit pension plans covered by PBGC's insurance program to most defined contribution plans, multiemployer defined benefit pension plans, and small professional service defined benefit pension plans not covered by PBGC. The rule was effective on January 22, 2018, and applicable to plans that terminate on or after January 1, 2018.

PBGC submitted the new collection of information to OMB for review under the PRA on December 22, 2017. On January 25, 2018, OMB approved the new collection of information through January 31, 2021, under OMB Control No. 1212-0069. An agency may not conduct or sponsor, and a person is not required to respond to, a collection of information unless it displays a currently valid OMB control number.

Issued in Washington DC.
Stephanie Cibinic,
Deputy Assistant General Counsel for Regulatory Affairs, Pension Benefit Guaranty Corporation.

[FR Doc. 2018-02201 Filed 2-2-18; 8:45 am]

BILLING CODE 7709-02-P